DEPARTMENT OF THE INTERIOR

National Park Service

George Washington Boyhood Home Special Resource Study

AGENCY: National Park Service, Department of the Interior.

ACTION: Notice of termination of the Environmental Impact Statement process for the George Washington Boyhood Home Special Resource Study.

SUMMARY: Under the provisions of the National Environmental Policy Act, the National Park Service will terminate the Environmental Impact Statement process for this study and prepare an Environmental Assessment.

The U.S. Congress authorized the special resource study in Section 509(c)(3) of Pub. L. 105-355 to examine how the cultural and natural resources of the property can be protected and public use of the site furthered. The George Washington boyhood Home property, also known as Ferry Farm, is located in Stafford County, Virginia. The property, part of the 18 century plantation where George Washington spent his youth, is now owned by the George Washington's Fredericksburg Foundation. Congress also authorized the Department of the Interior, through the National Park Service, to acquire easements on the property. The overall purpose of the study is to identify an appropriate management framework to achieve resource protection and public use goals. Leadership for the study project is being provided by the Superintendent of Fredericksburg and Spotsylvania National Military Park.

A Notice of Intent to prepare an Environmental Impact Statement was published in the Federal Register on August 14, 2000. The scoping process has been completed and draft alternatives developed in outline form. The recommended alternative will not involve new legislation. There is no potential for significant environmental effects.

FOR FURTHER INFORMATION CONTACT: Contact the Superintendent, Fredericksburg and Spotsylvania National Military Park, 540-373-4510 or at ferryfarm@nps.gov.

Dated: April 6, 2001.
Leonard C. Emerson,
Acting, Regional Director, Northeast Region.

[FR Doc. 01-24637 Filed 10-1-01; 8:45 am]

BILLING CODE 4310-70-M